DEPARTMENT OF DEFENSE

Office of the Secretary

Renewal of Department of Defense Federal Advisory Committees

AGENCY: Department of Defense (DoD).

ACTION: Renewal of Federal Advisory Committee.

SUMMARY: Under the provisions of the Federal Advisory Committee Act of 1972, (5 U.S.C. Appendix), the Government in the Sunshine Act of 1976 (5 U.S.C. 552b), and 41 CFR 102-3.50(d), the Department of Defense gives notice that it is renewing the charter for the Board of Advisors to the Presidents of the Naval Postgraduate School and the Naval War College (hereafter referred to as “the Board”).

The Board of Advisors to the Presidents of the Naval Postgraduate School and the Naval War College, pursuant to 41 CFR 102-3.50(d), is a discretionary Federal advisory committee established to provide the Secretary of the Navy through the Chief of Naval Operations and the Presidents of the Naval Postgraduate School and the Naval War College, advice and recommendations on items such as, but not limited to, organizational management, curricula, and methods of instructions, facilities, and other matters of interest.

The Secretary of the Navy may act upon the Board's advice and recommendations. The Board shall be comprised of no more than 10 members, who are eminent authorities in the fields of academia, business, national defense and security, the defense industry, and research and analysis. Not less than 50 percent of Board members shall be eminent authorities in the field of academia. Board members shall be appointed by the Secretary of Defense, with annual renewals.

The Board's Chairperson shall be elected by vote of the membership.

The Chief of Naval Personnel and the Commanding General, Training and Education Command, United States Marine Corps, shall serve as ex-officio members of the Board. Board members appointed by the Secretary of Defense, who are not full-time or permanent part-time Federal employees, shall be appointed to serve as experts and consultants under the authority of 5 U.S.C. 3109, and to serve as special government employees.

The Secretary of Defense may approve the appointment of Board members for one to four year terms of service; however, no member, unless authorized by the Secretary of Defense, may serve more than two consecutive terms of service. This same term of service limitation also applies to any DoD authorized subcommittees.

Regardless of the individual's approve term of service; all appointments to the Board shall be renewed on an annual basis. In addition, they shall serve without compensation, except for travel and per diem for official Board-related travel.

Each Board member is appointed to provide advice on behalf of the government on the basis of his or her best judgment without representing any particular point of view and in a manner that is free from conflict of interest.

The Department, when necessary, and consistent with the Board's mission and DoD policies and procedures, may establish subcommittees, task groups, or working groups deemed necessary to support the Board. Establishment of subcommittees will be based upon a written determination, to include terms of reference, by the Secretary of Defense, the Deputy Secretary of Defense, or the advisory committee's sponsor.

The Board shall establish two permanent subcommittees:

a. The Naval Postgraduate School subcommittee shall be comprised of no more than 15 members and shall focus on the Naval Postgraduate School. The Chief of Naval Personnel/Deputy Chief of Naval Operations for Manpower, Personnel, Training and Education Command; the Commanding General USMC Training and Education Command; the Commandant Army War College; the Chief of Naval Research; the President of the National Defense University; and the President of the Air University, will serve as ex-officio members of the subcommittee. The subcommittee shall meet a minimum of two times annually.

b. The Naval War College subcommittee shall be comprised of no more than 10 members and shall focus on the Naval War College. The Chief of Naval Personnel/Deputy Chief of Naval Operations for Manpower, Personnel, Training and Education will serve as ex-officio member of the subcommittee. The subcommittee shall meet a minimum of two times annually.

These subcommittees shall not work independently of the chartered Board, and shall report all of their recommendations and advice to the Board for full deliberation and discussion. Subcommittees have no authority to make decisions on behalf of the chartered Board; nor can any subcommittees or any of its members update or report directly to the Department of Defense or any Federal officers or employees.

Such subcommittee members shall be appointed in the same manner as the Board members; that is, the Secretary of Defense shall appoint subcommittee members even if the member in question is already a Board member. Subcommittee members, with the approval of the Secretary of Defense, may serve a term of service on the subcommittee of one to four years; however, no member shall serve more than two consecutive terms of service on the subcommittee. Subcommittee members, if not full-time or permanent part-time government employees, shall be appointed in the same manner as the Board members. Such individuals, shall be appointed to serve as experts and consultants under the authority of 5 U.S.C. 3109, and serve as special government employees, whose appointments must be renewed by the Secretary of Defense on an annual basis. With the exception of travel and per diem for official travel, subcommittee members shall serve without compensation.

All subcommittees operate under the provisions of FACA, the Government in the Sunshine Act of 1976 (5 U.S.C. 552b), governing Federal statutes and regulations, and governing DoD policies/procedures.

FOR FURTHER INFORMATION CONTACT: Jim Freeman, Deputy Advisory Committee Management Officer for the Department of Defense, 703-692-5952.

SUPPLEMENTARY INFORMATION: The Board shall meet at the call of the Board's Designated Federal Officer, in consultation with the Board's Chairperson and the Presidents of the Naval Postgraduate School and the Naval War College. The estimated number of Board meetings is one per year.

In addition, the Designated Federal Officer is required to be in attendance at all Board and subcommittee meetings for the entire duration of each and every meeting; however, in the absence of the Designated Federal Officer, the Alternate Designated Federal Officer shall attend the entire duration of the Board or subcommittee meeting.

Pursuant to 41 CFR 102-3.105(j) and 102-3.140, the public or interested organizations may submit written statements to the Board of Advisors to the Presidents of the Naval Postgraduate School and the Naval War College membership about the Board's mission and functions. Written statements may be submitted at any time or in response to the stated agenda of planned meeting of Board of Advisors to the Presidents of the Naval Postgraduate School and the Naval War College.

All written statements shall be submitted to the Designated Federal Officer for the Board of Advisors to the Presidents of the Naval Postgraduate School and the Naval War College, and this individual will ensure that the written statements are provided to the membership for their consideration. Contact information for the Board of Advisors to the Presidents of the Naval Postgraduate School and the Naval War College Designated Federal Officer can be obtained from the GSA's FACA Database— https://www.fido.gov/facadatabase/public.asp.

The Designated Federal Officer, pursuant to 41 CFR 102-3.150, will announce planned meetings of the Board of Advisors to the Presidents of the Naval Postgraduate School and the Naval War College. The Designated Federal Officer, at that time, may provide additional guidance on the submission of written statements that are in response to the stated agenda for the planned meeting in question.

Dated: February 22, 2012.
Aaron Siegel,
Alternate OSD Federal Register Liaison Officer, Department of Defense.

[FR Doc. 2012-4454 Filed 2-24-12; 8:45 am]

BILLING CODE 5001-06-P